CORPORATION FOR NATIONAL AND COMMUNITY SERVICE

Agency Information Collection Activities; Submission to the Office of Management and Budget for Review and Approval; Comment Request; Application Package for Senior Corps Grant Application

AGENCY: Corporation for National and Community Service (CNCS).

ACTION: Notice of information collection; request for comment.

SUMMARY: In accordance with the Paperwork Reduction Act of 1995, CNCS is proposing to renew an information collection. CNCS is not proposing any changes in the current version of the Senior Corps Grant Application.

DATES: Written comments must be submitted to the individual and office listed in the ADDRESSES section by September 4, 2018.

ADDRESSES: You may submit comments, identified by the title of the information collection activity, by any of the following methods:

(1) By mail sent to: Corporation for National and Community Service, Attention Tamika Becton, Senior Corps Management and Program Analyst, 250 E Street SW, Washington, DC 20525.

(2) By hand delivery or by courier to the CNCS mailroom at the mail address given in paragraph (1) above, between 9:00 a.m. and 4:00 p.m. Eastern Time, Monday through Friday, except federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Tamika Becton, 202-606-6644, or by email at tbecton@cns.gov.

SUPPLEMENTARY INFORMATION: Title of Collection: Senior Corps Grant Application (424-NSSC).

OMB Control Number: 3045-0035.

Type of Review: Renewal.

Respondents/Affected Public: Organizations or State, Local, or Tribal Governments.

Total Estimated Number of Annual Respondents: 1,250.

Total Estimated Annual Frequency: Annually, with exceptions.

Total Estimated Average Response Time per Response: 16.5 hours each for 180 first-time respondents; 15 hours each for 900 continuation sponsors; 5 hours each for 270 revisions.

Total Estimated Number of Annual Burden Hours: 17,820.

Total Burden Cost (capital/startup): None.

Total Burden Cost (operating/maintenance): None.

Abstract: CNCS also seeks to continue using the currently approved information collection until the revised information collection is approved by OMB. The currently-approved information collection is due to expire on September 30, 2018.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection on regulations.gov. Therefore, please do not include confidential, sensitive, or proprietary information in your comments. If you send an email comment, your email address will be automatically captured and included as part of the comment that is placed in the public docket and made available on the internet. Responses that contain any routine notice about the confidentiality of the communication will be treated as public comment that may be made available to the public, notwithstanding the inclusion of the routine notice.

Dated: June 29, 2018.
Tamika Becton,
Management and Program Analyst, Senior Corps.

[FR Doc. 2018-14473 Filed 7-5-18; 8:45 am]

BILLING CODE 6050-28-P